DEPARTMENT OF THE TREASURY

Office of Foreign Assets Control

Additional Designation of Persons and Identification of New Aliases Pursuant to Executive Order 13382

AGENCY: Office of Foreign Assets Control, Treasury.

ACTION: Notice.

SUMMARY: The Treasury Department's Office of Foreign Assets Control (“OFAC”) is publishing the names of six newly-designated entities, one newly-designated person, and eight additional aliases for a previously-designated entity whose property and interests in property are blocked pursuant to Executive Order 13382 of June 28, 2005, “Blocking Property of Weapons of Mass Destruction Proliferators and Their Supporters.”

DATES: The designation by the Director of OFAC of the six entities, one person, and eight new aliases identified in this notice pursuant to Executive Order 13382 is effective on April 7, 2009.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in an Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On April 7, 2009, the Director of OFAC, in consultation with the Departments of State, Justice, and other relevant agencies, designated six entities and one individual whose property and interests in property are blocked pursuant to Executive Order 13382.

The list of additional designees is as follows:

1. AMIN INDUSTRIAL COMPLEX (a.k.a. AMIN INDUSTRIAL COMPANY; a.k.a. AMIN INDUSTRIAL COMPOUND), P.O. Box 91735-549, Mashad, Iran; Amin Industrial Estate, Khalage Rd., Seyedi District, Mashad, Iran; Kaveh Complex, Khalaj Rd., Seyedi St., Mashad, Iran [NPWMD].

2. KAVEH CUTTING TOOLS COMPANY (a.k.a. KAVEH CUTTING TOOLS; a.k.a. KAVEH CUTTING TOOLS COMPLEX; a.k.a. KAVEH CUTTING TOOLS FACTORIES), 3rd Km of Khalaj Road, Seyyedi Street, Mashad, Iran 91638; Km 4 of Khalaj Road, End of Seyedi Street, Mashad, Iran; P.O. Box 91735-549, Mashad, Iran; Khalaj Rd., End of Seyyedi Alley, Mashad, Iran; Moqan St., Pasdaran St., Pasdaran Cross Rd., Tehran, Iran [NPWMD].

3. KHORASAN METALLURGY INDUSTRIES (a.k.a. KHORASAN AMMUNITION AND METALLURGY INDUSTRIES; a.k.a. KHORASAN METALOGY INDUSTRIES; a.k.a. SANAYE METOLOGIE IRAN; a.k.a. THE METALLURGY INDUSTRIES OF KHORASAN), Khalaj Road, End of Seyedi Street, Mashad, Iran; P.O. Box 91735-549, Mashad, Iran [NPWMD].

4. NIRU BATTERY MANUFACTURING COMPANY (a.k.a. NIROU BATTERY MANUFACTURING SABA BATTERY COMPANY; a.k.a. NIRU CO. LTD.; a.k.a. SHERKAT BATTERY SAZI NIRU SAHAMI KHASS; a.k.a. THE NIRU BATTERY COMPANY), End of Pasdaran Avenue, Nobonyad Square, P.O. Box 19575-361, Tehran 16489, Iran; Next to Babee Exp. Way, Nobonyad Sq., P.O. Box 19575-361, Tehran, Iran [NPWMD].

5. SHAHID SAYYADE SHIRAZI INDUSTRIES (a.k.a. SHAHID SAYYAD SHIRAZI INDUSTRIES; a.k.a. SHAHID SAYYED SHIRAZI IND.), Next To Nirou Battery Mfg. Co, Shahid Babaii Expressway, Nobonyad Square, Tehran, Iran; Pasdaran St., P.O. Box 16765, Tehran 1835, Iran; Babaei Highway—Next to Niru M.F.G, Tehran, Iran [NPWMD].

6. YAZD METALLURGY INDUSTRIES (a.k.a. YAZD METALLURGICAL INDUSTRIES; a.k.a. YAZD METALLURGICAL IND'S CO.), Pasdaran Avenue, Next to Telecommunication Industry, Tehran, Iran 16588; Postal Box 89195/878, Yazd, Iran; P.O. Box 89195-678, Yazd, Iran; Km 5 of Taft Road, Yazd, Iran [NPWMD].

7. FANGWEI, LI (a.k.a. LEE, Karl), China; c/o LIMMT ECONOMIC AND TRADE COMPANY, LTD., 2501-2508 Yuexiu Mansion, No. 82 Xinkai Road, Dalian, Liaoning 116011, China; DOB 18 Sep 1972; nationality China (individual) [NPWMD].

In addition, the SDN entry for LIMMT ECONOMIC AND TRADE CO., LTD., designated under E.O. 13382 on June 13, 2006, was amended to add the name of eight additional aliases (AKA's) of LIMMT. The amended entry for LIMMT on the OFAC SDN List now reads as follows:

LIMMT ECONOMIC AND TRADE COMPANY, LTD. (a.k.a. LIMMT (Dalian FTZ) Metallurgy and Minerals Co., Ltd; a.k.a. LIMMT (Dalian FTZ) Minmetals and Metallurgy Co., Ltd.; a.k.a. LIMMT (Dalian) Metallurgy and Minerals Co., Ltd.; a.k.a. Ansi Metallurgy Industry Co. Ltd.; a.k.a. Blue Sky Industry Corporation; a.k.a. Dalian Carbon Co., Ltd.; a.k.a. Dalian Sunny Industry & Trade Co., Ltd.; a.k.a. Liaoning Industry & Trade Co., Ltd.; a.k.a. SC (Dalian) Industry & Trade Co., Ltd.; a.k.a. Sino Metallurgy & Minmetals Industry Co., Ltd.; a.k.a. Wealthy Ocean Enterprises Ltd.), 2501-2508 Yuexiu Mansion, No. 82 Xinkai Road, Dalian, Liaoning 116011, China; No. 10 Zhongshan Road, Dalian, China; No. 100 Zhongshan Road, Dalian, China; No. 08, F25 Yuexiu Mansion, Xigang District, Dalian, China; and all other locations worldwide [NPWMD].

Dated: April 23, 2009.
Adam J. Szubin,
Director, Office of Foreign Assets Control.

[FR Doc. E9-9771 Filed 4-28-09; 8:45 am]

BILLING CODE 4811-45-P